DEPARTMENT OF LABOR

Employment and Training Administration

[TA-W-37,547 and TA-W-37,547A]

Donnkenny Apparel, Inc., Floyd, Virginia and Donnkenny Apparel, Inc., Independence, Virginia; Amended Certification Regarding Eligibility To Apply for Worker Adjustment Assistance

In accordance with Section 223 of the Trade Act of 1974 (19 U.S.C. 2273) the Department of Labor issued a Notice of Certification Regarding Eligibility to Apply for Worker Adjustment Assistance on June 6, 2000, applicable to workers of Donnkenny Apparel, Inc., Floyd and Independence, Virginia. The notice will be published soon in the Federal Register.

At the request of the State agency, the Department reviewed the certification for workers of the subject firm. The workers produce ladies' sportswear (pants and skirts). New information shows that the Department inadvertently included the workers of the Floyd, Virginia location of Donnkenny Apparel in its certification. Findings show that a previous certification, TA-W-34,806B, was issued on October 22, 1998, covering the same worker group, who were engaged in employment related to the production of ladies' sportswear (pants and skirts). That certification expires October 22, 2000.

Based on these findings, the Department is amending the certification to limit coverage to only workers of Donnkenny Apparel, Inc., Independence, Virginia.

The intent of the Department's certification is in include all workers of Donnkenny Apparel, Inc., Independence, Virginia adversely affected by increased imports.

The amended notice applicable to TA-W-37,547 is hereby issued as follows:

All workers of Konnkenny Apparel, Inc., Independence, Virginia who became totally or partially separated from employment on or after March 16, 1999 through June 6, 2002 are eligible to apply for adjustment assistance under Section 223 of the Trade Act of 1974.''

Signed at Washington, DC this 23rd day of June, 2000.
Edward A. Tomchick,
Director, Division of Trade Adjustment Assistance.

[FR Doc. 00-17312 Filed 7-7-00; 8:45 am]

BILLING CODE 4510-30-M